DEPARTMENT OF THE INTERIOR

Bureau of Land Management

[CO-956-99-1420-00]

Colorado: Filing of Plats of Survey

March 30, 2000.

The plats of survey of the following described land will be officially filed in the Colorado State Office, Bureau of Land Management, Lakewood, Colorado, effective 10:00 am., March 30, 2000. All inquiries should be sent to the Colorado State Office, Bureau of Land Management, 2850 Youngfield Street, Lakewood, Colorado 80215-7093.

The supplemental plat creating new lot 12 in the NW¼ section 32, T. 6 S., R. 77 W., Sixth Principal Meridian, Colorado, Group 1258, was accepted January 21, 2000.

The supplemental plat creating new lots 28 thru 34 in T. 1 N., R. 96 W., Sixth Principal Meridian, Colorado, was accepted February 22, 2000.

The plat representing the subdivision of a portion of section 26 and a metes-and-bounds survey of a portion of the west right-of-way of Colorado State Highway No. 9 in section 26, T. 4 S., R. 78 W., Sixth Principal Meridian, Colorado, Group 1258, was accepted March 23, 2000.

The plat representing a metes-and-bounds survey in the southwest quarter of section 36, T. 5 S., R. 78 W., Sixth Principal Meridian, Colorado, Group 1258, was accepted March 23, 2000.

The plat representing a metes-and-bounds survey of a portion of the east right-of-way of Summit County Road No. 5, in the northwest quarter of section 36, T. 6 S., R. 78 W., Sixth Principal Meridian, Colorado, Group 1258, was accepted March 23, 2000.

The plat representing the dependent resurvey of a portion of H.E.S. No. 305, and a metes-and-bounds survey of Tracts 38 and 39, and an informative traverse along the center line of a dirt road in partially surveyed T. 11 S., R. 84 W., Sixth Principal Meridian, Colorado, Group 1262, was accepted February 22, 2000.

The plat representing the entire record of the dependent resurvey of a portion of the subdivisional lines and metes-and-bounds surveys in section 9., T. 46 N., R. 10 W., New Mexico Principal Meridian, Colorado, Group 1264, was accepted February 1, 2000.

These surveys were requested by the Forest Service for administrative purposes.

The remonumentation of certain corners in T. 11 S., R. 72 W. and T. 4 S., R. 74 W., Sixth Principal Meridian, Colorado, Group 750, was accepted March 22, 2000.

This remonumentation was requested by the Federal Highway Administration.

The supplemental plat creating new lot 3 from a portion of the canceled claim Last Chance of the Terrible Mine Lode in the NW¼ of section 20, T. 21 S., R. 70 W., Sixth Principal Meridian, Colorado, was accepted January 10, 2000.

The supplemental plat creating new lots 16, 17, 18, and 19 from previous lots 6 and 11 in section 5., T. 13 S., R. 90 W., Sixth Principal Meridian, Colorado, was accepted January 31, 2000.

The supplemental plat correcting the lot numbers in sections 12 and 13, T. 51 N., R. 5 E., and sections 7 and 18, T. 51 N., R. 6 E., New Mexico Principal Meridian, Colorado, Group 1022, was accepted February 22, 2000.

The plat (in three sheets) representing the dependent resurvey of a portion of the east boundary, portions of the subdivisional lines and certain mineral claims, the subdivision of sections 9 and 10, and the metes-and-bounds survey of Tract 37, T. 49 N., R. 9 E., New Mexico Principal Meridian, Colorado, Group 994, was accepted December 22, 1999.

The plat representing the dependent resurvey of certain mineral claims in T. 15 S., R. 70 W., Sixth Principal Meridian, Colorado, Group 1202, was accepted December 14, 1999.

The plat representing the dependent resurvey of a portion of the west boundary and portions of the subdivisional lines and a metes-and-bounds survey in section 7, T. 49 N., R. 8 W., New Mexico Principal Meridian, Colorado, Group 1234, was accepted February 23, 2000.

The plat representing the dependent resurvey of a portion of the subdivisional lines and a metes-and-bounds survey in section 12, T. 49 N., R. 9 W., New Mexico Principal Meridian, Colorado, Group 1234, was accepted February 23, 2000.

These surveys were requested by the Bureau of Land Management for administrative purposes.

Darryl A. Wilson,
Chief Cadastral Surveyor for Colorado.

[FR Doc. 00-9224 Filed 4-12-00; 8:45 am]

BILLING CODE 4310-JB-U